DEPARTMENT OF ENERGY

Idaho Operations Office; Testing Fish Passage Characteristics for Low Power and Low Head Hydropower Turbine Technology

AGENCY: Idaho Operations Office, DOE.

ACTION: Notice of availability of financial assistance solicitation.

SUMMARY: The U.S. Department of Energy (DOE), Idaho Operations Office is soliciting applications from qualified hydropower turbine developers. These applications are for cost-shared testing of new hydropower turbine technology for fish passage characteristics. Qualified developers must own the rights to the new turbine technology. The technology must also be advanced to the stage that hardware exists or can be readily constructed; i.e., design has been completed. The cost-shared testing is to determine the fish passage performance characteristics of the turbine technology. This activity is also limited to turbine technology that falls within the low power (1 MW or less) and the low head (30 feet or less) ranges. This work will be in support of the U.S. DOE Advanced Hydropower Turbine System (AHTS) Program.

The issuance date of Solicitation Number DE-PS07-01ID14011 will be on or about November 17, 2000. The deadline for receipt of applications will be approximately on January 19, 2001.

ADDRESSES: The solicitation in its full text will be available on the Internet at the following URL address: http://www.id. doe.gov/doeid/PSD/proc-div.html or http://e-center.doe.gov.

Applications should be submitted to: Seb Klein, Procurement Services Division, U.S. Department of Energy, Idaho Operations Office, 850 Energy Drive, Mail Stop 1221, Idaho Falls, Idaho 83401-1563.

FOR FURTHER INFORMATION CONTACT: Seb Klein, Contract Specialist, kleinsm@id.doe gov.

SUPPLEMENTARY INFORMATION: The statutory authority for the program is the Federal Non-Nuclear Energy Research and Development Act of 1974 (Pub. L. 93-577). The Catalog of Federal Domestic Assistance (CFDA) Number for this program is 81.087.

Issued in Idaho Falls on November 6, 2000.
R.J. Hoyles,
Director, Procurement Services Division.

[FR Doc. 00-29889 Filed 11-21-00; 8:45 am]

BILLING CODE 6450-01-P